DEPARTMENT OF TRANSPORTATION

Federal Aviation Administration

14 CFR Part 39

[Docket No. FAA-2013-0640; Directorate Identifier 2013-SW-016-AD; Amendment 39-17517; AD 2013-15-01]

RIN 2120-AA64

Airworthiness Directives; AgustaWestland S.p.A. (Agusta) Helicopters

AGENCY: Federal Aviation Administration (FAA), Department of Transportation (DOT).

ACTION: Final rule; request for comments.

SUMMARY: We are adopting a new airworthiness directive (AD) for Agusta Model AB139 and AW139 helicopters. This AD requires deactivating the Full Icing Protection System (FIPS) and installing a placard next to the FIPS controller stating that flight into known icing is prohibited. This AD is prompted by a report of a fire in the aft avionics bay and the baggage compartment resulting from an Auto Transformer Rectifier Unit internal circuit overload. These actions are intended to prevent a fire, structural damage, and subsequent loss of control of the helicopter.

DATES: This AD becomes effective October 16, 2013.

We must receive comments on this AD by December 2, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, the economic evaluation, any comments received, and other information. The street address for the Docket Operations Office (telephone 800-647-5527) is in the ADDRESSES section. Comments will be available in the AD docket shortly after receipt.

For service information identified in this AD, contact AgustaWestland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Andy Shaw, Aviation Safety Engineer, Safety Management Group, Rotorcraft Directorate, FAA, 2601 Meacham Blvd., Fort Worth, Texas 76137; telephone (817) 222-5110; email andy.shaw@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2013-0124, dated June 5, 2013, which supersedes EASA AD No. 2013-0090, dated April 11, 2013, to correct an unsafe condition for the Agusta Model AB139 and AW139 helicopters. EASA advises of arcing inside some components of the FIPS. EASA states that the subsequent investigation indicated that improper insulation of one of the main rotor electrical cables was the likely cause for this arcing. EASA also states that this condition, if not detected and corrected, could lead to other events of arcing, possibly resulting in fire and consequent damage to the helicopter and injury to occupants. EASA AD No. 2013-0124 requires a one-time inspection and insulation test of the rotor blade electrical cables, and depending on findings, applicable corrective actions. Alternatively, EASA AD No. 2013-0124 allows de-activating the FIPS. Lastly, EASA AD No. 2013-0124 requires replacing the tail rotor distributor with an improved part. EASA states that its AD is considered an interim action and further AD action may follow.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

Agusta issued Bollettino Tecnico No. 139-324, dated April 9, 2013 (BT 139-324), which specifies inspecting the main rotor and tail rotor FIPS cables to ensure proper integrity of all wires of the cable assemblies in the area of their interface connectors. Depending on the findings, the BT also specifies applicable corrective actions.

Agusta revised BT 139-324 and issued Revision A on June 4, 2013, to clarify certain inspection procedures of the main rotor FIPS cables, remove the inspection of the tail rotor FIPS cables, and remove the insulation resistance check for tail rotor blade cables. Agusta issued Bollettino Tecnico No. 139-330, dated June 4, 2013 (BT 139-330), which specifies replacing the FIPS tail rotor distributor with an upgraded tail rotor distributor designed to increase the dielectric strength.

AD Requirements

This AD requires, before further flight, deactivating the FIPS and installing a placard next to the FIPS controller stating that flight into known icing is prohibited.

Differences Between This AD and the EASA AD

The EASA AD requires following the BT 139-324 by inspecting the rotor blade FIPS cables for damage and condition and performing an insulation test on the cable to ensure proper integrity of all wires of the cable assemblies in the area of their interface connectors. The FAA AD prohibits operation into known icing by deactivating the FIPS and installing a placard next to the FIPS controller stating that flight into known icing is prohibited. The EASA AD also requires modifying the tail rotor distributor in accordance with BT 139-330; the FAA AD does not.

Interim Action

We consider this AD to be an interim action. Once a modification to the FIPS design is evaluated, approved, and available, we might consider additional rulemaking.

Costs of Compliance

We estimate that this AD will affect 73 helicopters of U.S. Registry. We estimate that operators may incur the following costs in order to comply with this AD. It will take about 1 work-hour to deactivate the system and install a placard at $85 per work-hour. We estimate the total cost for the U.S. fleet to be $6,205.

FAA's Justification and Determination of the Effective Date

Providing an opportunity for public comments prior to adopting these AD requirements would delay implementing the safety actions needed to correct this known unsafe condition. Therefore, we find that the risk to the flying public justifies waiving notice and comment prior to adopting this rule because the required corrective actions must be accomplished before further flight. A system that can malfunction and cause a fire in an area that is not accessible while in flight rises to the level of an unsafe condition that the comment period should be postponed.

Since an unsafe condition exists that requires the immediate adoption of this AD, we determined that notice an opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-15-01 AGUSTAWESTLAND S.p.A.: Amendment 39-17517; Docket No. FAA-2013-0640; Directorate Identifier 2013-SW-016-AD.

(a) Applicability

This AD applies to Model AB139 and AW139 helicopters with a Full Icing Protection System (FIPS) installed, certificated in any category.

(b) Unsafe Condition

This AD defines the unsafe condition as improper insulation of an electrical cable resulting in failure of the FIPS Auto Transformer Rectifier Unit to contain the internal circuit overload. This condition could result in a fire, structural damage, and subsequent loss of control of the helicopter.

(c) Effective Date

This AD becomes effective October 16, 2013.

(d) Compliance

You are responsible for performing each action required by this AD within the specified compliance time unless it has already been accomplished prior to that time.

(e) Required Actions

Before further flight, deactivate the FIPS, and install a placard with 6 millimeter red letters on a white background next to the FIPS controller that states the following:

“FLIGHT INTO KNOWN ICING IS PROHIBITED.”

(f) Special Flight Permits

Special flight permits are prohibited.

(g) Alternative Methods of Compliance (AMOCs)

(1) The Manager, Safety Management Group, FAA, may approve AMOCs for this AD. Send your proposal to: Andy Shaw, Aviation Safety Engineer, Safety Management Group, Rotorcraft Directorate, FAA, 2601 Meacham Blvd., Fort Worth, Texas 76137; telephone (817) 222-5110; email andy.shaw@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) AgustaWestland Bollettino Tecnico (BT) No. 139-324, Revision A, dated June 4, 2013, and AgustaWestland BT No. 139-330, dated June 4, 2013, which are not incorporated by reference, contain additional information about the subject of this AD. For service information identified in this AD, contact AgustaWestland, Customer Support & Services, Via Per Tornavento 15, 21019 Somma Lombardo (VA) Italy, ATTN: Giovanni Cecchelli; telephone 39-0331-711133; fax 39 0331 711180; or at http://www.agustawestland.com/technical-bullettins. You may review a copy of the service information at the FAA, Office of the Regional Counsel, Southwest Region, 2601 Meacham Blvd., Room 663, Fort Worth, Texas 76137.

(2) The subject of this AD is addressed in European Aviation Safety Agency (EASA) AD No. 2013-0124, dated June 5, 2013. You may view the EASA AD on the Internet at http://www.regulations.gov in Docket No. FAA-2013-0640.

(i) Subject

Joint Aircraft Service Component (JASC) Code: 3060 Ice Protection.

Issued in Fort Worth, Texas, on July 11, 2013.
Kim Smith,
Directorate Manager, Rotorcraft Directorate, Aircraft Certification Service.

[FR Doc. 2013-23578 Filed 9-30-13; 8:45 am]

BILLING CODE 4910-13-P